DEPARTMENT OF THE INTERIOR

Bureau of Land Management

[BLM_MT_FRN_MO# 4500173324]

Notice of Western Montana Resource Advisory Council Meeting

AGENCY: Bureau of Land Management, Interior.

ACTION: Notice of public meetings.

SUMMARY: In accordance with the Federal Land Policy and Management Act of 1976 and the Federal Advisory Committee Act of 1972, the U.S. Department of the Interior, Bureau of Land Management's (BLM) Western Montana Resource Advisory Council (Council) will meet as follows.

DATES: The Council will participate in a field tour on October 2 and host a business meeting on October 3, 2023. A virtual participation option will be available. The field tour and business meeting will start at 9 a.m. Mountain Time (MT) and conclude at 4 p.m. MT. The meeting and field tour are open to the public.

ADDRESSES: The October 2 field tour will commence and conclude at the Dillon Field Office located at 1005 Selway Dr., Dillon, MT 59725, and the meeting will be held at the same location. Individuals who prefer to participate virtually in the meeting must register in advance. Registration information will be posted 2 weeks in advance of the meeting on the Council's web page at https://www.blm.gov/get-involved/resource-advisory-council/near-you/montana-dakotas/western-montana-rac.

Written comments for the Council may be sent electronically in advance of the scheduled meeting to Public Affairs Specialist David Abrams at dabrams@blm.gov, or in writing to BLM, Western Montana District/Public Affairs, 101 N Parkmont, Butte, MT 59701. All comments will be provided to the Council.

FOR FURTHER INFORMATION CONTACT: David Abrams, BLM Western Montana District Office, telephone: (406) 437-2562, email: dabrams@blm.gov. Individuals in the United States who are deaf, deafblind, hard of hearing, or have a speech disability may dial 711 (TTY, TDD, or TeleBraille) to access telecommunications relay services for contacting Mr. Abrams. Individuals outside the United States should use the relay services offered within their country to make international calls to the point-of-contact in the United States.

SUPPLEMENTARY INFORMATION: The Council provides recommendations to the Secretary of the Interior concerning the planning and management of the public land resources located within the BLM's Western Montana District. The Council will participate in a field tour on October 2 to public land sites within the Council's purview. Members of the public are welcome on field tours but must provide their own transportation and meals. Individuals who plan to attend and need special assistance, such as sign language interpretation and other reasonable accommodations, should contact the BLM (see FOR FURTHER INFORMATION CONTACT) at least 2 weeks in advance. Agenda topics for the October 3 meeting include updates and discussion on Restoration Landscape projects and funding from the Missoula and Dillon Field Offices; recreation fee proposals and increases; and other resource management issues the Council may raise. The final agenda will be published with the news release confirming the meeting details 2 weeks before the meeting.

A public comment period will be offered October 3 at 3:30 p.m. MT. Depending on the number of persons wishing to speak and the time available, the amount of time for oral comments may be limited.

Before including your address, phone number, email address, or other personal identifying information in your comment, you should be aware that your entire comment—including your personal identifying information—may be made publicly available at any time. While you can ask us in your comment to withhold your personal identifying information from public review, we cannot guarantee that we will be able to do so. While the field tour and business meeting are scheduled from 9 a.m. to 4 p.m., they may end earlier or later depending on the needs of group members. Therefore, members of the public interested in a specific agenda item or discussion at the October 3 meeting should schedule their arrival accordingly.

Detailed minutes for Council meetings will be maintained in the BLM Western Montana District Office. Minutes will also be posted to the Council's web page at https://www.blm.gov/get-involved/resource-advisory-council/near-you/montana-dakotas/western-montana-rac.

Authority: 43 CFR 1784.4-2.

Kathryn A. Stevens,
BLM Western Montana BLM District Manager.

[FR Doc. 2023-19676 Filed 9-11-23; 8:45 am]

BILLING CODE 4331-20-P